DEPARTMENT OF THE INTERIOR

National Park Service

Missouri National Recreational River; Availability of Final Boundary Map

AGENCY: National Park Service

SUMMARY: In accordance with section 3(b) of the Wild and Scenic Rivers Act (62 Stat. 906 as amended; 16 U.S.C. 1274), notice is hereby given that the official, detailed boundary maps, drawing number 651-80000, dated March 6, 2000, for the Missouri National Recreational River are completed and available.

FOR FURTHER INFORMATION CONTACT: Superintendent Missouri National Recreational River, P.O. Box 591, O'Neill, Nebraska 68763-0591, telephone 402-336-3970.

SUPPLEMENTARY INFORMATION: On November 10, 1978, the 59-mile segment of the Missouri River from Gavins Point Dam, South Dakota to Ponca State Park, Nebraska, was designated a recreational river by Public Law 95-625, an amendment to the Wild and Scenic Rivers Act. In accordance with section 3 (c) of the Wild and Scenic Rivers Act, notice is hereby given that the above said maps are now available for inspection at the following locations: The Department of the Interior, National Park Service, Land Resources Division, 1849 C Street NW, Room 2444, Washington, D.C.; National Park Service, Midwest Regional Office, Office of Planning, 1709 Jackson St., Omaha, Nebraska; Missouri National Recreational River Headquarters, 114 N. 6th St., O'Neill, Nebraska; Cedar County Courthouse, County Clerk's Office, 101 S. Broadway Hartington, Nebraska; Clay County Courthouse, County Clerk's Office, 211 W. Main St., Vermillion, South Dakota; Dixon County Courthouse, County Clerk's Office, 302 3rd St., Ponca, Nebraska; Union County Courthouse, County Clerk's Office, 209 E. Main, Elk Point, South Dakota; Yankton County Courthouse, County Clerk's Office, 321 W. 3rd St., Yankton, South Dakota. Copies of the maps are also available in public libraries in Hartington and Ponca, Nebraska, and Yankton, Vermillion, and Elk Point, South Dakota. Please address any questions or requests to the Superintendent at the address given above.

Dated: September 22, 2000.
Catherine A. Damon,
Acting Regional Director.

[FR Doc. 00-25252 Filed 9-29-00; 8:45 am]

BILLING CODE 4310-70-P